DEPARTMENT OF AGRICULTURE

Agricultural Marketing Service

7 CFR Parts 56, 62, and 70

[Docket No. AMS-LPS-15-0057]

Amendments to Quality Systems Verification Programs and Conforming Changes; Withdrawal

AGENCY: Agricultural Marketing Service, USDA.

ACTION: Notice of withdrawal.

SUMMARY: This action informs the public that the Agricultural Marketing Service (AMS) is withdrawing a proposed rule published in the Federal Register on November 7, 2016, that proposed to amend Quality Systems Verification Program (QSVP) regulations. Upon further review, the agency has decided to clarify that all voluntary, user-fee services under this part are applicable to all commodities covered by the Agricultural Marketing Act of 1946 (Act), as amended. Accordingly, a proposed rule covering all audit-based services is forthcoming from the agency.

DATES: The proposed rule published November 7, 2016, at 81 FR 78057, is withdrawn as of October 9, 2018.

FOR FURTHER INFORMATION CONTACT: Jeffrey Waite, Branch Chief, Auditing Services Branch, Quality Assessment Division; Livestock and Poultry Program, Agricultural Marketing Service, U.S. Department of Agriculture; Room 3932-S, STOP 0258, 1400 Independence Avenue SW, Washington, DC 20250-0258; telephone (202) 720-4411; or email to Jeffrey.Waite@ams.usda.gov.

SUPPLEMENTARY INFORMATION: The Act directs and authorizes the Secretary of Agriculture to facilitate the competitive and efficient marketing of agricultural products and provides that rulemaking be undertaken as necessary to effectuate its purpose. Under the authority of the Act, AMS programs support a strategic marketing perspective that adapts product and marketing decisions to consumer demands, changing domestic and international marketing practices, and new technology. To assist in marketing, AMS developed the QSVP, a suite of audit-based programs that can provide confidence that process points meet specified requirements.

This action informs the public of the withdrawal of the proposed rule published in the Federal Register (81 FR 78057) on November 7, 2016. The proposed rule would have amended 7 CFR part 62, QSVP to expand the commodities under QSVP to include those authorized under the Act; would have amended the title of the regulation to remove the reference to “Livestock, Meat, and Other Commodities”; would have defined the types of programs and services offered under QSVP; and would have updated administrative items to reflect current terminology and organizational structure. Additionally, the proposed rule would have amended 7 CFR parts 56 and 70, which provide for services to the shell egg and poultry industries, respectively, to remove any references to audit and verification activities and update administrative items to reflect current organizational structure. The proposed rule provided a 60-day public comment period during which no comments were received.

Upon further review, AMS decided to clarify that all voluntary, user-fee services under 7 CFR part 62 are applicable to all commodities covered by the Act. AMS also plans to harmonize administrative procedures governing these services. A new proposed rule to amend 7 CFR part 62 to that effect is forthcoming from the agency. Therefore, for the reasons set forth above, AMS announces that it is withdrawing the proposed rule published in the Federal Register (81 FR 78057) on November 7, 2016.

Dated: October 3, 2018.
Bruce Summers,
Administrator, Agricultural Marketing Service.

[FR Doc. 2018-21843 Filed 10-5-18; 8:45 am]

BILLING CODE 3410-02-P